COMMISSION ON CIVIL RIGHTS

Sunshine Act Meeting Notice

AGENCY: United States Commission on Civil Rights.

ACTION: Notice of Commission Briefing and Business Meeting.

DATES: Friday, March 17, 2017, at 9:30 a.m. EST.

ADDRESSES: National Place Building, 1331 Pennsylvania Ave. NW., 11th Floor, Suite 1150, Washington, DC 20245 (Entrance on F Street NW.)

FOR FURTHER INFORMATION CONTACT: Brian Walch, phone: (202) 376-8371; TTY: (202) 376-8116; publicaffairs@usccr.gov.

SUPPLEMENTARY INFORMATION: This business meeting is open to the public. There will also be a public call-in line (listen only): 1-877-545-1402; Call ID # 874-9423.

Hearing-impaired persons who will attend the briefing and require the services of a sign language interpreter should contact Pamela Dunston at (202) 376-8105 or at signlanguage@usccr.gov at least three business days before the scheduled date of the meeting.

During the briefing portion, Commissioners will ask questions and discuss the civil rights topic with the panelists. The public may submit written comments on the briefing topic to the above mailing address for 30 days after the briefing. Please direct your comments to the attention of the “Staff Director” and clearly mark “Briefing Comments Inside” on the outside of the envelope. Please note we are unable to return any comments or submitted materials. Comments may also be submitted by email to municipalfees@usccr.gov.

Meeting Agenda

I. Approval of Agenda

II. Public Briefing on Targeted Fines and Fees against Low-Income People of Color: Civil Rights and Constitutional Implications—(9:30 a.m. for opening remarks)

A. Panel One: Department of Justice's (DOJ) “Dear Colleague” Letter and Other Voluntary Court Reform Efforts (9:40 a.m.-10:55 a.m.)

Court Administrators reflect on the impact of the “Dear Colleague” letter on municipal court reform, the availability of federal grant monies for reform, and discuss other voluntary court reforms taking place across U.S. states.

• David Slayton, Texas Court of Court Administration

• Martha Wright, Judicial Council of California

• Cynthia Delostrinos, Washington State Supreme Court's Minority and Justice Commission

• Sherri Paschal, Missouri Office of State Courts Administrator

B. Panel Two: Ferguson and Beyond: Patterns and Practices (11:00 a.m.-12:15 p.m.)

Community advocates, the Missouri court system, and an individual involved in investigating the City of Ferguson's municipal court practices discuss: (1) The implementation of the initial reforms, (2) what is working and not working, (3) how those reforms have affected the lived experience of citizens, and (4) whether other reforms are needed.

• Chiraag Bains, Criminal Justice Policy Program, Harvard Law School

• Judge Karl DeMarce, Circuit Court of Scotland County, MO, and Sherri Paschal, Missouri Office of State Courts Administrator

• Thomas Harvey, Arch City Defenders

Lunch Break 12:15 p.m.-1:15 p.m.

C. Panel Three: Fines and Fees' Date and Research, and Recommendations (1:15 p.m.-3:00 p.m.)

Professors and criminal justice experts discuss the data regarding how the practice of generating revenue through the municipal court system has impacted low-income communities of color, and provide policy recommendations for reforming municipal court systems.

• Sarah Shannon, Ph.D., University of Georgia

• Derek Cohen, Texas Public Policy Foundation; Right on Crime

• Mitali Nagrecha, Criminal Justice Policy Program, Harvard Law School

• Grover Norquist, Americans for Tax Reform

• Marc Levin, Texas Public Policy Foundation; Right on Crime

• Neil Sobol, Texas A&M University

D. Adjourn Briefing—3:00 p.m.

III. Break 3:00 p.m.-3:15 p.m.

IV. Business Meeting

A. Program Planning

• Discussion and vote on Michigan SAC letters

• Discussion and vote on Indiana SAC letters

B. State Advisory Committees

• Vote on appointments to the Louisiana State Advisory Committee

• Vote on appointments to the Florida State Advisory Committee

• Vote on appointments to the Nebraska State Advisory Committee

• Vote on appointments to the Texas State Advisory Committee

• Presentation by Chair of Kansas State Advisory Committee on Voting Rights in Kansas and the Kansas Secure and Fair Elections Act

C. Management and Operations

• Staff Director's Report

• Staff Changes

III. Adjourn Meeting.

Dated: March 8, 2017.
Brian Walch,
Director, Communications and Public Engagement.

[FR Doc. 2017-04904 Filed 3-8-17; 4:15 pm]

BILLING CODE 6335-01-P